DEPARTMENT OF EDUCATION

Office of Safe and Drug-Free Schools; Overview Information: Emergency Management for Higher Education Grants; Notice Inviting Applications for New Awards for Fiscal Year (FY) 2008

Catalog of Federal Domestic Assistance (CFDA) Number: 84.184T.

DATES: Applications Available: April 24, 2008. Deadline for Transmittal of Applications: May 27, 2008. Deadline for Intergovernmental Review: July 23, 2008.

Full Text of Announcement

I. Funding Opportunity Description

Purpose of Program: Emergency Management for Higher Education (EMHE) Grants support efforts by higher education institutions to develop, or review and improve, and fully integrate, campus-based all-hazards emergency management planning efforts within the framework of the four phases of emergency management [Prevention-Mitigation, Preparedness, Response, and Recovery].

Priority: We are establishing this priority for the FY 2008 grant competition and any subsequent year in which we make awards from the list of unfunded applicants from this competition in accordance with section 437(d)(1) of the General Education Provisions (GEPA), 20 U.S.C. 1232(d)(1).

Absolute Priority: This priority is an absolute priority. Under 34 CFR 75.105(c)(3) we consider only applications that meet this priority.

This priority is:

Develop, or Review and Improve, and Fully Integrate Campus-Based All-Hazards Emergency Management Planning Efforts for Higher Education Institutions.

A program funded under this absolute priority must use the framework of the four phases of emergency management (Prevention-Mitigation, Preparedness, Response, and Recovery) to:

(1) Develop, or review and improve, and fully integrate a campus-wide all-hazards emergency management plan that takes into account threats that may be unique to the campus;

(2) Train campus staff, faculty, and students in emergency management procedures;

(3) Ensure coordination of planning and communication across all relevant components, offices, and departments of the campus;

(4) Coordinate with local and State government emergency management efforts;

(5) Develop a written plan with emergency protocols that include the medical, mental health, communication, and transportation needs of persons with disabilities, temporary special needs of individuals, and other unique needs (including those arising from language barriers or cultural differences such as specific clothing expectations) of individuals;

(6) Develop or update a written plan that prepares the campus for infectious disease outbreaks with both short-term implications for planning (e.g., outbreaks caused by methicillin-resistant Staphylococcus aureus (MRSA) or food-borne illnesses) and long-term implications for planning (e.g., pandemic influenza); and

(7) Develop or enhance a written plan for preventing violence on campus by assessing and addressing the mental health needs of students who may be at risk of causing campus violence by harming themselves or others.

Note: Information about the four phases of emergency management is available in the Department's Practical Information on Crisis Planning Guide, which is accessible on the Department's Web site at http://www.ed.gov/admins/lead/safety/crisisplanning.html.

Additional Requirements: All applicants must meet the following additional requirements.

Partner Agreements. To be considered for a grant award, an applicant must include in its application an agreement that details the higher education institution's procedures for coordination between the campus and: (1) A representative of the appropriate level of local or State government for the locality in which the campus is located (for example, the mayor, city manager, or county executive) and (2) a representative from a local or State emergency management coordinating body (for example, head of the local emergency planning council that would be involved in coordinating a large-scale emergency response effort in the campus community). The agreement must include a description of the partners' roles and responsibilities in supporting and strengthening emergency management plans for the campus as well as descriptions of the roles and responsibilities of the higher education institution in grant implementation and partner coordination. An authorized representative of the higher education institution and both of the partners identified in this paragraph must sign an assurance form acknowledging the agreement. If either of the two required partners is not present in an applicant's community, or cannot feasibly participate, the agreement must explain the absence of each missing partner.

Applications that fail to include the required agreement (or an explanation documenting why an agreement is not included as specified in the previous paragraph), including information on partners' roles and responsibilities and on their commitment to continuation and continuous improvement (with signatures and explanations for missing signatures as specified), will not be read.

Applicants submitting on behalf of multiple campuses must include partner agreements with required partner signatures for each participating campus.

Although this program requires partnerships with other parties, administrative direction and fiscal control for the project must remain with the higher education institution.

Coordination with State or Local Homeland Security Plan. All emergency management plans must be coordinated with the Homeland Security Plan of the State or locality in which the applicant campus is located. All States submitted such a plan to the Department of Homeland Security (DHS) on January 30, 2004. To ensure that emergency services are coordinated, and to avoid duplication of effort within States and localities, an applicant must include in its application an assurance that the higher education institution will coordinate with, and follow, the requirements of its State or local Homeland Security Plan for emergency services and initiatives. This assurance must be signed by the applicant and submitted with the application.

Implementation of the National Incident Management System (NIMS). Each applicant must agree to implement its grant in a manner consistent with the implementation of the NIMS in its community. An applicant must include in its application an assurance that it has met, or will complete, all current NIMS requirements by the end of the grant period.

Because DHS' determination of NIMS requirements may change from year to year, an applicant must refer to the most recent list of NIMS requirements published by DHS when submitting its application. In any notice inviting applications, the Department will provide applicants with information necessary to access the most recent DHS list of NIMS requirements. Information about the FY 2007 NIMS requirements for tribal governments and local jurisdictions, including higher education institutions, may be found at: http://www.fema.gov/pdf/emergency/nims/imp_mtrx_tribal.pdf.

Note: A higher education institution's NIMS compliance must be achieved in close coordination with the local government and with recognition of the first-responder capabilities held by the higher education institution and the local government. The relationship between any campus-based law enforcement or security department and plan must be considered in conjunction with the plan and capacity of local fire and rescue departments, emergency medical service providers, crisis center/hotlines, and law enforcement agencies that may be called to assist in a large-scale disaster. Participation of the higher education institution in the NIMS preparedness program of the local government is essential to ensure that first-responder services are delivered in a timely and effective manner. Additional information about NIMS implementation is available at: http://www.fema.gov/emergency/nims/nims_compliance.shtm.

Higher education institutions that have previously received Federal preparedness funding and are, therefore, already NIMS-compliant should indicate that in the assurance form.

Waiver of Proposed Rulemaking: Under the Administrative Procedure Act (5 U.S.C. 553) the Department generally offers interested parties the opportunity to comment on proposed priorities and other requirements. Section 437(d)(1) of GEPA, however, allows the Secretary to exempt from rulemaking requirements, regulations governing the first grant competition under a new or substantially revised program authority. In the report language accompanying the 2008 Department of Education Appropriations Act, Congress indicated that funding recommended for school emergency preparedness activities be used for new grant awards to higher education institutions to develop and implement emergency management plans for preventing campus violence (including assessing and addressing the mental health needs of students) and for responding to threats and incidents of violence or natural disaster in a manner that ensures the safety of the campus community. (House Appropriations Committee Print explanatory statement regarding the Consolidated Appropriations Act, 2008 (H.R. 2764; Pub. L. 110-161), pg. 1582). The EMHE grant competition is the first grant competition for this program under 20 U.S.C. 7131 and, therefore, qualifies for this exemption. In order to ensure timely grant awards, the Secretary has decided to forgo public comment on the priority and other requirements under section 437(d)(1) of GEPA. This priority and other requirements will apply to the FY 2008 grant competition and any subsequent years in which we make awards from the list of unfunded applicants from this competition.

Program Authority: 20 U.S.C. 7131.

Applicable Regulations: The Education Department General Administrative Regulations (EDGAR) in 34 CFR parts 74, 75, 77, 79, 81, 82, 84, 85, 86, 97, 98, 99, and 299.

Note: The regulations in 34 CRF part 79 apply to all applicants except federally recognized Indian tribes.

II. Award Information

Type of Award: Discretionary grants.

Estimated Available Funds: $5,374,000.

Contingent upon the availability of funds and the quality of applications, we may make additional awards later in FY 2008 and in FY 2009 and subsequent years from the list of unfunded applicants from this competition.

Estimated Range of Awards: $50,000-$500,000.

Estimated Average Size of Awards: $50,000 for small-sized institutions; $250,000 for medium-sized institutions; and $500,000 for large-sized institutions.

Estimated Number of Awards: 18.

Note: The Department is not bound by any estimates in this notice.

Project Period: Up to 18 months.

III. Eligibility Information

1. Eligible Applicants: Higher education institutions and consortia thereof. For the purposes of this competition, the term “higher education institutions” includes those institutions described in sections 101(a), 101(b), and 102 of the Higher Education Act of 1965, as amended (HEA), except that institutions included in section 102 of the HEA are eligible only to the extent that they are located within the United States (including Puerto Rico, the United States Virgin Islands, Guam, American Samoa, and the Commonwealth of the Northern Mariana Islands). A copy of the relevant provisions from the HEA will be included in the application package.

2. Cost Sharing or Matching: This competition does not require cost sharing or matching.

IV. Application and Submission Information

1. Address to Request Application Package:

You can obtain an application package via the Internet or from the Education Publications Center (ED Pubs). To obtain a copy via the Internet, use the following address: http://www.ed.gov/fund/grant/apply/grantapps/index.html. To obtain a copy from ED Pubs, write, fax, or call the following: Education Publications Center, P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify this competition as follows: CFDA number 84.184T.

Individuals with disabilities can obtain a copy of the application package in an alternative format (e.g., Braille, large print, audiotape, or computer diskette) by contacting the person listed under Alternative Format in section VIII of this notice.

2. Content and Form of Application Submission: Requirements concerning the content of an application, together with the forms you must submit, are in the application package for this competition.

3. Submission Dates and Times:

Applications Available: April 24, 2008.

Deadline for Transmittal of Applications: May 27, 2008.

Applications for grants under this competition may be submitted electronically using the Grants.gov Apply site (Grants.gov), or in paper format by mail or hand delivery. For information (including dates and times) about how to submit your application electronically, or in paper format by mail or hand delivery, please refer to section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: July 23, 2008.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section in this notice.

6. Other Submission Requirements: Applications for grants under this competition may be submitted electronically or in paper format by mail or hand delivery.

a. Electronic Submission of Applications.

To comply with the President's Management Agenda, we are participating as a partner in the Governmentwide Grants.gov Apply site. The EMHE Grants competition, CFDA Number 84.184T, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the EMHE Grants competition at http://www.Grants.gov. You must search for the downloadable application package for this competition by the CFDA number. Do not include the CFDA number's alpha suffix in your search (e.g., search for 84.184, not 84.184T).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department). The Department then will retrieve your application from Grants.gov and send a second notification to you by e-mail. This second notification indicates that the Department has received your application and has assigned your application a PR/Award number (an ED-specified identifying number unique to your application).

• We may request that you provide us original signatures on forms at a later date. Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address: By mail through the U.S. Postal Service: U.S. Department of Education, Application Control Center, Attention: (CFDA Number 84.184T), 400 Maryland Avenue, SW., Washington, DC 20202-4260; or By mail through a commercial carrier: U.S. Department of Education, Application Control Center, Stop 4260, Attention: (CFDA Number 84.184T), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.184T), 550 12th Street, SW., Room 7041, Potomac Center Plaza, Washington, DC 20202-4260.

The Application Control Center accepts hand deliveries daily between 8 a.m. and 4:30 p.m., Washington, DC time, except Saturdays, Sundays, and Federal holidays. Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. You must also submit an interim report nine months after the award date. This report should provide the most current performance and financial expenditure information as directed by the Secretary under 34 CFR 75.118. The Secretary may also require more frequent performance reports under 34 CFR 75.720(c). For specific requirements on reporting, please go to http://www.ed.gov/fund/grant/apply/appforms/appforms.html.

4. Performance Measures: We have identified the following key Government Performance and Results Act of 1993 (GPRA) performance measure for assessing the effectiveness of the EMHE Grants program: The percentage of EMHE grantees that demonstrate a 50 percent increase at the end of the project period in the number of course completions by their higher education institution personnel in key National Incident Management System (NIMS) courses compared to the number of such courses completed at the start of the grant project period. This GPRA measure constitutes the Department's indicator of success for this program. Applicants for a grant under this program are advised to give careful consideration to this measure in designing their proposed project. Before beginning implementation of training connected to this grant, each grantee will be required to determine baseline data on the total number of these courses completed by personnel on its campus between April 2004 (when the courses first became available) and the project start date for their EMHE grant. Each applicant is strongly encouraged to include this information in its application if it is available. If it is not available during the application phase, each grantee will be required to collect and report baseline data in its interim report and both baseline and final progress with regard to this measure in its final report.

For the purposes of this measure, “key NIMS courses” are those identified by the Federal Emergency Management Agency (FEMA) in the Department of Homeland Security as requirements for NIMS compliance. To date these courses include the following: Incident Command System (ICS)-100 Introduction to ICS, ICS-200 ICS for Single Resources and Initial Action Incidents, ICS-300 Intermediate ICS, ICS-400 Advanced ICS, ICS-700 National Incident Management System: An Introduction, and ICS-800.B National Response Framework, An Introduction. ICS-100, ICS-200, ICS-700, and ICS-800.B courses are all available online as Independent Study (IS) courses offered through the FEMA's Emergency Management Institute (EMI) at: http://training.fema.gov. (It is not necessary that the key NIMS training requirements be met through a Federal source such as the on-campus resident courses or online distance learning courses offered by the EMI. The courses may also be taken through State, Tribal, and local emergency management training programs that offer equivalent, in-classroom training for completion.)

Note: Completion of course IS-100.SC Introduction to the Incident Command System, I-100, for Schools, constitutes completion of course ICS-100. This course was specifically designed to provide ICS training within a school-based context.

VII. Agency Contact

FOR FURTHER INFORMATION CONTACT: Tara Hill, U.S. Department of Education, 400 Maryland Ave., SW., room 3E340, Washington, DC 20202-6450. Telephone: (202) 708-9431 or by e-mail: tara.hill@ed.gov.

If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 18, 2008.
Deborah A. Price,
Assistant Deputy Secretary for Safe and Drug-Free Schools.

[FR Doc. E8-8954 Filed 4-23-08; 8:45 am]

BILLING CODE 4000-01-P